DEPARTMENT OF ENERGY

Federal Energy Regulatory Commission

[Project No. 2114-003, 064]

Public Utility District No. 2 of Grant County; Notice of Availability of Final Environmental Assessment

December 21, 2004.

In accordance with the National Environmental Policy Act of 1969 and the Federal Energy Regulatory Commission's (Commission) regulations, 18 CFR part 380 (Order No. 486, 52 FR 47897), the Office of Energy Projects has reviewed the application for implementation of an Interim Protection Plan (IPP) for steelhead and chinook salmon and an application for approving an Offer of Settlement and Memorandum of Agreement (MOA) on providing downstream passage for juvenile salmonids for the Priest Rapids Hydroelectric Project. Following a review of the IPP and MOA the Commission has prepared a Final Environmental Assessment (FEA) for the project. On December 16, 2004, the Director of the Commission's Office of Energy Projects issued an Order Amending License and Terminating Proceedings; FEA was attached to the Order. The project is located on the Columbia River in Grant, Yakima, Kittitas, Douglas, Benton, and Chelan Counties.

The FEA contains staff's analysis of the potential environmental impacts associated with the implementation of the IPP and MOA. The FEA recommends that the Public Utility District No. 2 of Grant County (licensee for the project) implement the National Oceanographic and Atmospheric Administration's (NOAA Fisheries) Reasonable and Prudent Alternative (RPA), as prepared in NOAA Fisheries Biological Opinion on the proposed action, as well as the summer spill as proposed in the MOA. The FEA concludes that the RPA would not constitute a major federal action that would significantly affect the quality of the human environment.

The FEA is on file with the Commission and available for public inspection. Copies of the EA are available for review in the Public Reference Room at the Commission's offices at 888 First Street, NE., Washington, DC. The FEA may also be viewed on the Commission's Web site at http://www.ferc.gov using the “eLibrary” link. For assistance, contact FERC On Line Support at FERCOnlineSupport@ferc.gov or call toll free at (866) 208-3676, or for TTY contact (202) 502-8659.

For further information, please contact Andrea Shriver at (202) 502-8171.

Magalie R. Salas,
Secretary.

[FR Doc. E4-3851 Filed 12-28-04; 8:45 am]

BILLING CODE 6717-01-P